DEPARTMENT OF ENERGY

Federal Energy Regulatory Commission

Combined Notice of Filings

Take notice that the Commission has received the following Natural Gas Pipeline Rate and Refund Report filings:

Filings Instituting Proceedings

Docket Numbers: PR25-31-000.

Applicants: National Fuel Gas Distribution Corporation.

Description: 284.123 Rate Filing: Amendment of Rates Under an Order No. 63 Blanket Certificate 1-2025 to be effective 1/31/2025.

Filed Date: 1/31/25.

Accession Number: 20250131-5264.

Comment Date: 5 p.m. ET 2/21/25.

Docket Numbers: PR25-32-000.

Applicants: Wisconsin Power and Light Company.

Description: 284.123(g) Rate Filing: WPL Statement of Operating Conditions Update 2025 to be effective 2/1/2025.

Filed Date: 1/31/25.

Accession Number: 20250131-5383.

Comment Date: 5 p.m. ET 2/21/25.

284.123(g) Protest: 5 p.m. ET 4/1/25.

Docket Numbers: RP25-460-000.

Applicants: BBT Trans-Union Interstate Pipeline, L.P.

Description: Compliance filing: BBT-Trans Union NAESB 4.0 Compliance Filing to be effective 8/1/2025.

Filed Date: 1/31/25.

Accession Number: 20250131-5191.

Comment Date: 5 p.m. ET 2/12/25.

Docket Numbers: RP25-461-000.

Applicants: SG Resources Mississippi, L.L.C.

Description: Compliance filing: NAESB 4.0 Compliance Filing to be effective 8/1/2025.

Filed Date: 1/31/25.

Accession Number: 20250131-5201.

Comment Date: 5 p.m. ET 2/12/25.

Docket Numbers: RP25-462-000.

Applicants: Perryville Gas Storage LLC.

Description: Compliance filing: NAESB 4.0 Compliance Filing to be effective 8/1/2025.

Filed Date: 1/31/25.

Accession Number: 20250131-5215.

Comment Date: 5 p.m. ET 2/12/25.

Docket Numbers: RP25-463-000.

Applicants: Steckman Ridge, LP.

Description: Compliance filing: Steckman Ridge Order 587-AA (Docket RM96-1-043) Compliance Filing to be effective 1/31/2025.

Filed Date: 1/31/25.

Accession Number: 20250131-5219.

Comment Date: 5 p.m. ET 2/12/25.

Docket Numbers: RP25-464-000.

Applicants: Florida Southeast Connection, LLC.

Description: Compliance filing: Order No. 587-AA Compliance Filing to be effective 8/1/2025.

Filed Date: 1/31/25.

Accession Number: 20250131-5222.

Comment Date: 5 p.m. ET 2/12/25.

Docket Numbers: RP25-465-000.

Applicants: Pine Prairie Energy Center, LLC.

Description: Compliance filing: NAESB 4.0 Compliance Filing to be effective 8/1/2025.

Filed Date: 1/31/25.

Accession Number: 20250131-5252.

Comment Date: 5 p.m. ET 2/12/25.

Docket Numbers: RP25-466-000.

Applicants: Monroe Gas Storage Company, LLC.

Description: Compliance filing: NAESB 4.0 Compliance Filing to be effective 8/1/2025.

Filed Date: 1/31/25.

Accession Number: 20250131-5279.

Comment Date: 5 p.m. ET 2/12/25.

Docket Numbers: RP25-467-000.

Applicants: Southern Star Central Gas Pipeline, Inc.

Description: 4(d) Rate Filing: Annual Modernization Capital Cost Recovery Mechanism—Eff. March 1, 2025 to be effective 3/1/2025.

Filed Date: 1/31/25.

Accession Number: 20250131-5354.

Comment Date: 5 p.m. ET 2/12/25.

Docket Numbers: RP25-468-000.

Applicants: Gillis Hub Pipeline, LLC.

Description: 4(d) Rate Filing: Gillis Hub Pipeline NAESB Standards Filing to be effective 8/1/2025.

Filed Date: 1/31/25.

Accession Number: 20250131-5375.

Comment Date: 5 p.m. ET 2/12/25.

Docket Numbers: RP25-469-000.

Applicants: Cameron Interstate Pipeline, LLC.

Description: 4(d) Rate Filing: Cameron Interstate Pipeline NAESB Standards Filing to be effective 8/1/2025.

Filed Date: 1/31/25.

Accession Number: 20250131-5381.

Comment Date: 5 p.m. ET 2/12/25.

Docket Numbers: RP25-470-000.

Applicants: Algonquin Gas Transmission, LLC.

Description: 4(d) Rate Filing: Negotiated Rates—Various Releases eff 2-1-25 to be effective 2/1/2025.

Filed Date: 1/31/25.

Accession Number: 20250131-5387.

Comment Date: 5 p.m. ET 2/12/25.

Docket Numbers: RP25-471-000.

Applicants: East Tennessee Natural Gas, LLC.

Description: 4(d) Rate Filing: Limited Section 4—EPC Tracker Mechanism to be effective 3/1/2025.

Filed Date: 1/31/25.

Accession Number: 20250131-5416.

Comment Date: 5 p.m. ET 2/12/25.

Docket Numbers: RP25-472-000.

Applicants: Texas Eastern Transmission, LP.

Description: 4(d) Rate Filing: Negotiated Rates—Approved Energy II eff 2-1-25 to be effective 2/1/2025.

Filed Date: 1/31/25.

Accession Number: 20250131-5438.

Comment Date: 5 p.m. ET 2/12/25.

Docket Numbers: RP25-473-000.

Applicants: National Grid LNG, LLC.

Description: 4(d) Rate Filing: 01-31-25 NGLNG Section 4 Rate Case to be effective 3/1/2025.

Filed Date: 1/31/25.

Accession Number: 20250131-5440.

Comment Date: 5 p.m. ET 2/12/25.

Docket Numbers: RP25-474-000.

Applicants: Maritimes & Northeast Pipeline, L.L.C.

Description: 4(d) Rate Filing: Negotiated Rates—Various Releases—eff 2-1-25 to be effective 2/1/2025.

Filed Date: 1/31/25.

Accession Number: 20250131-5467.

Comment Date: 5 p.m. ET 2/12/25.

Docket Numbers: RP25-475-000.

Applicants: Equitrans, L.P.

Description: Compliance filing: Compliance Filing—Order No. 587-AA to be effective 8/1/2025.

Filed Date: 2/3/25.

Accession Number: 20250203-5009.

Comment Date: 5 p.m. ET 2/18/25.

Docket Numbers: RP25-476-000.

Applicants: Rager Mountain Storage Company LLC.

Description: Compliance filing: Compliance Filing—Order No. 587-AA to be effective 8/1/2025.

Filed Date: 2/3/25.

Accession Number: 20250203-5010.

Comment Date: 5 p.m. ET 2/18/25.

Docket Numbers: RP25-477-000.

Applicants: Mountain Valley Pipeline, LLC.

Description: Compliance filing: Compliance Filing—Order No. 587-AA to be effective 8/1/2025.

Filed Date: 2/3/25.

Accession Number: 20250203-5014.

Comment Date: 5 p.m. ET 2/18/25.

Docket Numbers: RP25-478-000.

Applicants: Iroquois Gas Transmission System, L.P.

Description: Compliance filing: 2.3.25 FERC Order 587-AA (NAESB) v4.0 Compliance Filing to be effective 8/1/2025.

Filed Date: 2/3/25.

Accession Number: 20250203-5048.

Comment Date: 5 p.m. ET 2/18/25.

Docket Numbers: RP25-479-000.

Applicants: PGPipeline LLC.

Description: Compliance filing: PGPipeline LLC NAESB 4.0 Compliance Filing to be effective 8/1/2025.

Filed Date: 2/3/25.

Accession Number: 20250203-5050.

Comment Date: 5 p.m. ET 2/18/25.

Docket Numbers: RP25-480-000.

Applicants: WBI Energy Transmission, Inc.

Description: Compliance filing: 2024 NAESB Compliance Filing with Order No. 587-AA to be effective 8/1/2025.

Filed Date: 2/3/25.

Accession Number: 20250203-5052.

Comment Date: 5 p.m. ET 2/18/25.

Docket Numbers: RP25-481-000.

Applicants: Cheniere Corpus Christi Pipeline, LP.

Description: Compliance filing: Cheniere Corpus Christi Pipeline NAESB 4.0 Filing to be effective 8/1/2025.

Filed Date: 2/3/25.

Accession Number: 20250203-5056.

Comment Date: 5 p.m. ET 2/18/25.

Docket Numbers: RP25-482-000.

Applicants: Cheniere Creole Trail Pipeline, L.P.

Description: Compliance filing: Cheniere Creole Trail Pipeline NAESB 4.0 Filing to be effective 8/1/2025.

Filed Date: 2/3/25.

Accession Number: 20250203-5057.

Comment Date: 5 p.m. ET 2/18/25.

Docket Numbers: RP25-483-000.

Applicants: Midship Pipeline Company, LLC.

Description: Compliance filing: Midship Pipeline Company NAESB 4.0 Filing to be effective 8/1/2025.

Filed Date: 2/3/25.

Accession Number: 20250203-5058.

Comment Date: 5 p.m. ET 2/18/25.

Docket Numbers: RP25-484-000.

Applicants: Gulf Shore Energy Partners, LP.

Description: Compliance filing: Gulf Shore NAESB 4.0 Compliance Filing to be effective 8/1/2025.

Filed Date: 2/3/25.

Accession Number: 20250203-5067.

Comment Date: 5 p.m. ET 2/18/25.

Docket Numbers: RP25-485-000.

Applicants: Transwestern Pipeline Company, LLC.

Description: Compliance filing: NAESB 4.0 Compliance to be effective 8/1/2025.

Filed Date: 2/3/25.

Accession Number: 20250203-5068.

Comment Date: 5 p.m. ET 2/18/25.

Docket Numbers: RP25-486-000.

Applicants: Panhandle Eastern Pipe Line Company, LP.

Description: Compliance filing: NAESB 4.0 Compliance to be effective 8/1/2025.

Filed Date: 2/3/25.

Accession Number: 20250203-5069.

Comment Date: 5 p.m. ET 2/18/25.

Docket Numbers: RP25-487-000.

Applicants: Trunkline Gas Company, LLC.

Description: Compliance filing: NAESB 4.0 Compliance to be effective 8/1/2025.

Filed Date: 2/3/25.

Accession Number: 20250203-5070.

Comment Date: 5 p.m. ET 2/18/25.

Docket Numbers: RP25-488-000.

Applicants: Sea Robin Pipeline Company, LLC.

Description: Compliance filing: NAESB 4.0 Compliance to be effective 8/1/2025.

Filed Date: 2/3/25.

Accession Number: 20250203-5071.

Comment Date: 5 p.m. ET 2/18/25.

Docket Numbers: RP25-489-000.

Applicants: Southwest Gas Storage Company.

Description: Compliance filing: NAESB 4.0 Compliance to be effective 8/1/2025.

Filed Date: 2/3/25.

Accession Number: 20250203-5072.

Comment Date: 5 p.m. ET 2/18/25.

Docket Numbers: RP25-490-000.

Applicants: ETC Tiger Pipeline, LLC.

Description: Compliance filing: NAESB 4.0 Compliance to be effective 8/1/2025.

Filed Date: 2/3/25.

Accession Number: 20250203-5073.

Comment Date: 5 p.m. ET 2/18/25.

Docket Numbers: RP25-491-000.

Applicants: PPG Shawville Pipeline, LLC.

Description: Compliance filing: NAESB Compliance Filing 2025 to be effective 8/1/2025.

Filed Date: 2/3/25.

Accession Number: 20250203-5074.

Comment Date: 5 p.m. ET 2/18/25.

Docket Numbers: RP25-492-000.

Applicants: High Island Offshore System, L.L.C.

Description: Compliance filing: NAESB v. 6.0 Compliance to be effective 8/1/2025.

Filed Date: 2/3/25.

Accession Number: 20250203-5082.

Comment Date: 5 p.m. ET 2/18/25.

Docket Numbers: RP25-493-000.

Applicants: TransCameron Pipeline, LLC.

Description: Compliance filing: NAESB Compliance Filing 2025 to be effective 8/1/2025.

Filed Date: 2/3/25.

Accession Number: 20250203-5088.

Comment Date: 5 p.m. ET 2/18/25.

Docket Numbers: RP25-494-000.

Applicants: Natural Gas Pipeline Company of America LLC.

Description: Compliance filing: Compliance Filing Pursuant to Order No. 587-AA to be effective 8/1/2025.

Filed Date: 2/3/25.

Accession Number: 20250203-5091.

Comment Date: 5 p.m. ET 2/18/25.

Docket Numbers: RP25-495-000.

Applicants: Venture Global Gator Express, LLC.

Description: Compliance filing: NAESB Compliance Filing 2025 to be effective 8/1/2025.

Filed Date: 2/3/25.

Accession Number: 20250203-5095.

Comment Date: 5 p.m. ET 2/18/25.

Docket Numbers: RP25-496-000.

Applicants: Kinder Morgan Illinois Pipeline LLC.

Description: Compliance filing: Compliance Filing Pursuant to Order No. 587-AA to be effective 8/1/2025.

Filed Date: 2/3/25.

Accession Number: 20250203-5099.

Comment Date: 5 p.m. ET 2/18/25.

Docket Numbers: RP25-497-000.

Applicants: Stingray Pipeline Company, L.L.C.

Description: Compliance filing: NAESB Version 4.0 Compliance to be effective 8/1/2025.

Filed Date: 2/3/25.

Accession Number: 20250203-5102.

Comment Date: 5 p.m. ET 2/18/25

Docket Numbers: RP25-498-000.

Applicants: Horizon Pipeline Company, L.L.C.

Description: Compliance filing: Compliance Filing Pursuant to Order No. 587-AA to be effective 8/1/2025.

Filed Date: 2/3/25.

Accession Number: 20250203-5103.

Comment Date: 5 p.m. ET 2/18/25.

Docket Numbers: RP25-499-000.

Applicants: Transcontinental Gas Pipe Line Company, LLC.

Description: 4(d) Rate Filing: Order No. 587-AA Compliance (NAESB 4.0) to be effective 8/1/2025.

Filed Date: 2/3/25.

Accession Number: 20250203-5104.

Comment Date: 5 p.m. ET 2/18/25.

Docket Numbers: RP25-500-000.

Applicants: Tres Palacios Gas Storage LLC.

Description: Compliance filing: Tres Palacios Order 587-AA (Docket RM96-1-043) Compliance Filing to be effective 8/1/2025.

Filed Date: 2/3/25.

Accession Number: 20250203-5106.

Comment Date: 5 p.m. ET 2/18/25.

Docket Numbers: RP25-501-000.

Applicants: Southern Star Central Gas Pipeline, Inc.

Description: Compliance filing: NAESB 4.0 to be effective 8/1/2025.

Filed Date: 2/3/25.

Accession Number: 20250203-5107.

Comment Date: 5 p.m. ET 2/18/25.

Docket Numbers: RP25-502-000.

Applicants: Pine Needle LNG Company, LLC.

Description: 4(d) Rate Filing: Pine Needle Order No. 587-AA Compliance (NAESB 4.0) to be effective 8/1/2025.

Filed Date: 2/3/25.

Accession Number: 20250203-5108.

Comment Date: 5 p.m. ET 2/18/25.

Docket Numbers: RP25-503-000.

Applicants: Garden Banks Gas Pipeline, LLC.

Description: Compliance filing: Garden Banks Order 587-AA (Docket RM96-1-043) Compliance Filing to be effective 8/1/2025.

Filed Date: 2/3/25.

Accession Number: 20250203-5110.

Comment Date: 5 p.m. ET 2/18/25.

Docket Numbers: RP25-504-000.

Applicants: Mississippi Canyon Gas Pipeline, L.L.C.

Description: Compliance filing: Mississippi Canyon Order 587-AA (Docket RM96-1-043) Compliance Filing to be effective 8/1/2025.

Filed Date: 2/3/25.

Accession Number: 20250203-5111.

Comment Date: 5 p.m. ET 2/18/25.

Docket Numbers: RP25-505-000.

Applicants: Southern Natural Gas Company, L.L.C.

Description: Compliance filing: SNG NAESB 4.0 Implementation Filing to be effective 8/1/2025.

Filed Date: 2/3/25.

Accession Number: 20250203-5113.

Comment Date: 5 p.m. ET 2/18/25.

Docket Numbers: RP25-506-000.

Applicants: Southern LNG Company, L.L.C.

Description: Compliance filing: SLNG NAESB 4.0 Implementation Filing to be effective 8/1/2025.

Filed Date: 2/3/25.

Accession Number: 20250203-5114.

Comment Date: 5 p.m. ET 2/18/25.

Docket Numbers: RP25-507-000.

Applicants: Nautilus Pipeline Company, L.L.C.

Description: Compliance filing: Nautilus Order 587-AA (Docket RM96-1-043) Compliance Filing to be effective 8/1/2025.

Filed Date: 2/3/25.

Accession Number: 20250203-5115.

Comment Date: 5 p.m. ET 2/18/25.

Docket Numbers: RP25-508-000.

Applicants: Vector Pipeline L.P.

Description: Compliance filing: Vector Pipeline NAESB 4.0 Compliance Filing to be effective 8/1/2025.

Filed Date: 2/3/25.

Accession Number: 20250203-5122.

Comment Date: 5 p.m. ET 2/18/25.

Docket Numbers: RP25-509-000.

Applicants: Elba Express Company, L.L.C.

Description: Compliance filing: EEC NAESB 4.0 Implementation Filing to be effective 8/1/2025.

Filed Date: 2/3/25.

Accession Number: 20250203-5123.

Comment Date: 5 p.m. ET 2/18/25.

Docket Numbers: RP25-510-000.

Applicants: Midcontinent Express Pipeline LLC.

Description: Compliance filing: MEP NAESB 4.0 Implementation Filing to be effective 8/1/2025.

Filed Date: 2/3/25.

Accession Number: 20250203-5128

Comment Date: 5 p.m. ET 2/18/25.

Docket Numbers: RP25-511-000.

Applicants: Gulf South Pipeline Company, LLC.

Description: 4(d) Rate Filing: Cap Rel Neg Rate Agmt (Osaka 46428 to EDF 58814) to be effective 2/1/2025.

Filed Date: 2/3/25.

Accession Number: 20250203-5131.

Comment Date: 5 p.m. ET 2/18/25.

Docket Numbers: RP25-512-000.

Applicants: Rover Pipeline LLC.

Description: 4(d) Rate Filing: Summary of Negotiated Rate Capacity Release Agreements 2-3-2025 to be effective 2/1/2025.

Filed Date: 2/3/25.

Accession Number: 20250203-5133.

Comment Date: 5 p.m. ET 2/18/25.

Docket Numbers: RP25-513-000.

Applicants: Golden Triangle Storage, LLC.

Description: Compliance filing: NAESB Compliance Filing 2025 to be effective 8/1/2025.

Filed Date: 2/3/25.

Accession Number: 20250203-5136.

Comment Date: 5 p.m. ET 2/18/25.

Docket Numbers: RP25-514-000.

Applicants: Wyoming Interstate Company, L.L.C.

Description: Compliance filing: Order No. 587-AA Compliance Filing to be effective 8/1/2025.

Filed Date: 2/3/25.

Accession Number: 20250203-5139.

Comment Date: 5 p.m. ET 2/18/25.

Docket Numbers: RP25-515-000.

Applicants: Adelphia Gateway, LLC.

Description: Compliance filing: Adelphia NAESB 4.0 Compliance Filing to be effective 8/1/2025.

Filed Date: 2/3/25.

Accession Number: 20250203-5140.

Comment Date: 5 p.m. ET 2/18/25.

Docket Numbers: RP25-516-000.

Applicants: Cheyenne Plains Gas Pipeline Company, L.L.C.

Description: Compliance filing: Order No. 587-AA Compliance Filing to be effective 8/1/2025.

Filed Date: 2/3/25.

Accession Number: 20250203-5144.

Comment Date: 5 p.m. ET 2/18/25.

Docket Numbers: RP25-517-000.

Applicants: Gulf South Pipeline Company, LLC.

Description: 4(d) Rate Filing: Cap Rel Neg Rate Agmt (Osaka 46428 to Uniper 58821) to be effective 2/1/2025.

Filed Date: 2/3/25.

Accession Number: 20250203-5149.

Comment Date: 5 p.m. ET 2/18/25.

Docket Numbers: RP25-518-000.

Applicants: Young Gas Storage Company, Ltd.

Description: Compliance filing: Order No. 587-AA Compliance Filing to be effective 8/1/2025.

Filed Date: 2/3/25.

Accession Number: 20250203-5151.

Comment Date: 5 p.m. ET 2/18/25.

Docket Numbers: RP25-519-000.

Applicants: Mountain Valley Pipeline, LLC.

Description: 4(d) Rate Filing: Negotiated Rate Capacity Release Agreements—2/1/2025 to be effective 2/1/2025.

Filed Date: 2/3/25.

Accession Number: 20250203-5152.

Comment Date: 5 p.m. ET 2/18/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 3, 2025.
Carlos D. Clay,
Deputy Secretary.

[FR Doc. 2025-02370 Filed 2-6-25; 8:45 am]

BILLING CODE 6717-01-P